DEPARTMENT OF COMMERCE

National Oceanic and Atmospheric Administration

[I.D. 020100C]

Advisory Committee to the U.S. Section to the International Commission for the Conservation of Atlantic Tunas (ICCAT); Spring Species Working Group Meeting

AGENCY: National Marine Fisheries Service (NMFS), National Oceanic and Atmospheric Administration (NOAA), Commerce.

ACTION: Notice of public meeting.

SUMMARY: The Advisory Committee to the U.S. Section to ICCAT announces its spring meeting with its Species Working Groups on March 6 and 7, 2000.

DATES: The open sessions of the Committee meeting will be held on March 6, 2000, from 9:15 a.m. to 2:30 p.m., and on March 7, 2000, from 9:00 a.m. to 10 a.m. and from 11:30 a.m. to 5 p.m. Closed sessions will be held on March 6, 2000, from 2:30 p.m. to approximately 6:00 p.m., and on March 7, 2000, from 10 a.m. to 11:30 a.m.

ADDRESSES: The meeting will be held at the Holiday Inn Silver Spring, 8777 Georgia Avenue, Silver Spring, Maryland 20910.

FOR FURTHER INFORMATION CONTACT: Kim Blankenbeker at (301) 713-2276.

SUPPLEMENTARY INFORMATION: The Advisory Committee to the U.S. Section to ICCAT will meet in open session to receive and to discuss information on (1) 1999 ICCAT meeting results and U.S. implementation of ICCAT decisions, (2) NMFS and ICCAT research and monitoring activities, (3) the Food and Agriculture Organization's work related to illegal, unregulated, and unreported fishing, (4) the second meeting of ICCAT's Working Group on Allocation Criteria, (5) Advisory Committee operational issues, (6) consultation regarding the identification of countries that are diminishing the effectiveness of ICCAT, (7) the results of the meetings of the Committee's Species Working Groups, and (8) other matters relating to the international management of ICCAT species. The public will have access to the open sessions of the meeting, but there will be no opportunity for public comment.

Sessions of the Advisory Committee's Species Working Groups will not be open to the public, but, as noted earlier, the results of the working group discussions will be reported to the full Advisory Committee during the Committee's afternoon open session on March 7.

Special Accommodations

The meeting locations are physically accessible to people with disabilities. Requests for sign language interpretation or other auxiliary aids should be directed to Kim Blankenbeker at (301) 713-2276 at least 5 days prior to the meeting date.

Dated: February 3, 2000.
Bruce C. Morehead,
Acting Director, Office of Sustainable Fisheries, National Marine Fisheries Service.

[FR Doc. 00-3003 Filed 2-9-00; 8:45 am]

BILLING CODE 3510-22-F